DEPARTMENT OF TRANSPORTATION

Federal Aviation Administration

14 CFR Part 71

[Docket No. FAA-2011-0439; Airspace Docket No. 11-ANM-10]

Amendment of Class D and Class E Airspace and Establishment of Class E Airspace; Casper, WY

AGENCY: Federal Aviation Administration (FAA), DOT.

ACTION: Final rule.

SUMMARY: This action amends Class D and Class E airspace at Casper, Natrona County International Airport, Casper, WY, by adjusting the geographic coordinates of the airport. This action also establishes Class E En Route Domestic airspace at the airport to improve the safety and management of IFR operations.

DATES: Effective date, 0901 UTC, October 20, 2011. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue, SW., Renton, WA 98057; telephone (425) 203-4537.

SUPPLEMENTARY INFORMATION:

History

On June 21, 2011, the FAA published in the Federal Register a notice of proposed rulemaking to amend controlled airspace at Casper, WY (76 FR 36017). Interested parties were invited to participate in this rulemaking effort by submitting written comments on the proposal to the FAA. No comments were received.

Class D and Class E airspace designations are published in paragraphs 5000, 6002, 6004, 6005 and 6006, respectively, of FAA Order 7400.9U dated August 18, 2010, and effective September 15, 2010, which is incorporated by reference in 14 CFR 71.1. The Class D and Class E airspace designations listed in this document will be published subsequently in that Order.

The Rule

This action amends Title 14 Code of Federal Regulations (14 CFR) part 71 by amending Class D airspace, Class E surface airspace, Class E airspace designated as an extension, and Class E airspace extending upward from 700/1,200 feet above the surface, by adjusting the geographic coordinates of Casper, Natrona County International Airport to be in concert with the FAA's aeronautical database. Also, this action establishes Class E en route domestic airspace extending upward from 1,200 feet above the surface to facilitate vectoring of Instrument Flight Rules (IFR) traffic from en route airspace to the airport. This enhances the safety and management of IFR operations at the airport.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, section 106 discusses the authority of the FAA Administrator. Subtitle VII, Aviation Programs, describes in more detail the scope of the agency's authority. This rulemaking is promulgated under the authority described in subtitle VII, part A, subpart I, section 40103. Under that section, the FAA is charged with prescribing regulations to assign the use of airspace necessary to ensure the safety of aircraft and the efficient use of airspace. This regulation is within the scope of that authority as it establishes additional controlled airspace at Casper, Natrona County International Airport, Casper, WY.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR 71.1 of the Federal Aviation Administration Order 7400.9U, Airspace Designations and Reporting Points, dated August 18, 2010, and effective September 15, 2010 is amended as follows:

Paragraph 5000 Class D Airspace

* * * * *

ANM WY D Casper, WY [Amended]

Casper, Natrona County International Airport, WY

(Lat. 42°54′29″ N., long. 106°27′52″ W.)

That airspace extending upward from the surface to and including 7,800 feet MSL within a 4.3-mile radius of Natrona County International Airport. This Class D airspace area is effective during the specific dates and times established in advance by a Notice to Airmen. The effective date and time will thereafter be continuously published in the Airport/Facility Directory.

Paragraph 6002 Class E airspace designated as surface areas.

* * * * *

ANM WY E2 Casper, WY [Amended]

Casper, Natrona County International Airport, WY

(Lat. 42°54′29″ N., long. 106°27′52″ W.)

Within a 4.3-mile radius of Natrona County International Airport. This Class E airspace area is effective during the specific dates and times established in advance by a Notice to Airmen. The effective date and time will thereafter be continuously published in the Airport/Facility Directory.

Paragraph 6004 Class E airspace designated as an extension to a Class D surface area.

* * * * *

ANM WY E4 Casper, WY [Amended]

Casper, Natrona County International Airport, WY

(Lat. 42°54′29″ N., long. 106°27′52″ W.)

Muddy Mountain VORTAC

(Lat. 43°05′27″ N., long. 106°16′37″ W.)

Johno LOM

(Lat. 42°54′26″ N., long. 106°34′12″ W.)

That airspace extending upward from the surface within 4.3 miles each side of the Muddy Mountain VORTAC 216° radial extending from the VORTAC to 29 miles southwest of the VORTAC, and within 2.7 miles each side of the ILS localizer west course extending from .9 miles east to 9 miles west of the Johno LOM. This Class E airspace area is effective during the specific dates and times established in advance by a Notice to Airmen. The effective date and time will thereafter be continuously published in the Airport/Facility Directory.

Paragraph 6005 Class E airspace areas extending upward from 700 feet or more above the surface of the earth.

* * * * *

ANM WY E5 Casper, WY [Amended]

Casper, Natrona County International Airport, WY

(Lat. 42°54′29″ N., long. 106°27′52″ W.)

Muddy Mountain VORTAC

(Lat. 43°05′27″ N., long. 106°16′37″ W.)

Casper ASR

(Lat. 42°55′16″ N., long. 106°27′15″ W.)

That airspace extending upward from 700 feet above the surface within a 23.5-mile radius of the Casper ASR; that airspace extending upward from 1,200 feet above the surface within the 37.5-mile radius of the Casper ASR, and within an area extending from the 37.5-mile radius to the 36.6-mile radius of the Muddy Mountain VORTAC, bounded on the north by the Muddy Mountain VORTAC 060° radial and on the south by the Muddy Mountain VORTAC 111° radial; that airspace extending upward from 11,500 feet MSL extending from the 37.5-mile radius to the 52.2-mile radius of the Muddy Mountain VORTAC, bounded on the east by the west edge of V-19 and on the south by the north edge of V-298.

Paragraph 6006 En Route Domestic Airspace Areas

* * * * *

ANM WY E6 Casper, WY [New]

Casper, Natrona County International Airport, WY

(Lat. 42°54′29″ N., long. 106°27′52″ W.)

That airspace extending upward from 1,200 feet above the surface within a 85-mile radius of Natrona County International Airport; excluding existing controlled airspace 7,100 feet MSL and above.

Issued in Seattle, Washington, on August 15, 2011.
John Warner,
Manager, Operations Support Group, Western Service Center.

[FR Doc. 2011-21663 Filed 8-24-11; 8:45 am]

BILLING CODE 4910-13-P